DEPARTMENT OF STATE

[Public Notice 6704]

30-Day Notice of Proposed Information Collection: DS-158, Contact Information and Work History for Nonimmigrant Visa Applicant; OMB Control Number 1405-0144

ACTION: Notice of request for public comment and submission to OMB of proposed collection of information.

SUMMARY: The Department of State has submitted the following information collection request to the Office of Management and Budget (OMB) for approval in accordance with the Paperwork Reduction Act of 1995.

* Title of Information Collection: Contact Information and Work History for Nonimmigrant Visa Applicant.

* OMB Control Number: 1405-0144.

* Type of Request: Extension of Currently Approved Collection.

* Originating Office: CA/VO.

* Form Number: DS-158.

* Respondents: Applicants for F, J, and M nonimmigrant visas.

* Estimated Number of Respondents: 700,000 per year.

* Estimated Number of Responses: 700,000 per year.

* Average Hours per Response: 1 hour.

* Total Estimated Burden: 700,000 hours per year.

* Frequency: Once per respondent.

* Obligation To Respond: Required to Obtain or Retain Benefit.

DATES: Submit comments to the Office of Management and Budget (OMB) for up to 30 days from July 21, 2009.

ADDRESSES: Direct comments and questions to Katherine Astrich, the Department of State Desk Officer in the Office of Information and Regulatory Affairs at the Office of Management and Budget (OMB), who may be reached at (202) 395-4718. You may submit comments by any of the following methods:

* E-mail: Katherine_T._Astrich@omb.eop.gov. You must include the DS form number; information collection title, and OMB control number in the subject line of your message.

* Mail (paper, disk, or CD-ROM submissions): Office of Information and Regulatory Affairs, Office of Management and Budget, 725 17th Street, NW., Washington, DC 20503.

* Fax: (202) 395-5806.

FOR FURTHER INFORMATION CONTACT: You may obtain copies of the proposed informational collection and supporting documents from Lauren Prosnik of the Office of Visa Services, U.S. Department of State, 2401 E Street NW., Washington, DC 20522, who may be reached at (202) 663-2951.

SUPPLEMENTARY INFORMATION:

We are soliciting public comments to permit the Department to:

* Evaluate whether the proposed information collection is necessary to properly perform our functions.

* Evaluate the accuracy of our estimate of the burden of the proposed collection, including the validity of the methodology and assumptions used.

* Enhance the quality, utility, and clarity of the information to be collected.

* Minimize the reporting burden on those who are to respond,

Abstract of proposed collection:

The DS-158 is used to collect supplemental information from students wishing to obtain a nonimmigrant visa to study in the United States.

Methodology:

Applicants may fill out the DS-158 online or print the page and fill it out by hand, and submit it in person at the time of interview.

Dated: July 15, 2009.
James R. Pritchett,
Deputy Assistant Secretary (Acting), Bureau of Consular Affairs, Department of State.

[FR Doc. E9-17264 Filed 7-20-09; 8:45 am]

BILLING CODE 4710-06-P